Proclamation 7486 of October 15, 2001

White Cane Safety Day, 2001

By the President of the United States of America

A Proclamation

National White Cane Safety Day, observed annually on October 15, is a day of special significance for blind and visually impaired Americans because it represents a declaration of freedom. It also signifies a commitment by the sighted community to improve access to basic services for blind and visually impaired persons.

The familiar “white cane” is recognized as a tool of independence that enables the blind and visually impaired to participate in the facets of daily life. The core principles of our country promise freedom, justice, and hope; and these principles should guarantee the opportunity for every disabled American to live full and productive lives. The new millennium brings with it a renewed pledge to ensure that no citizen is prevented from realizing the American dream because of a disability.

Eleven years ago, when the Americans with Disabilities Act was enacted into law, America opened its doors to a new age of access for people with disabilities. To build on this landmark civil rights law, I have launched the “New Freedom Initiative,” which is intended to ensure that all Americans with disabilities can participate more fully in the life of their communities and of our country. As part of this initiative, my Administration has asked the Congress to increase significantly Federal funding for State low-interest loan programs, so Americans with disabilities can purchase new assistive technologies. To help researchers continue to develop these types of helpful technologies, we have asked the Congress to increase Federal investment in assistive technology research and development. All Americans must work together to break down barriers and obstacles that may impede the progress of individuals with disabilities; and we must provide them with ever greater access to the workplace and public transportation.

The Congress, by joint resolution approved on October 6, 1964, has designated October 15 of each year as White Cane Safety Day. I call upon every American to observe this day by joining with me in working to open the doors of opportunity further and making the American dream a reality for all blind and visually impaired citizens of our Nation.

NOW, THEREFORE, I, GEORGE W. BUSH, President of the United States of America, do hereby proclaim October 15, 2001, as White Cane Safety Day. I call upon public officials, educators, librarians, and all the people of the United States to observe this day with appropriate ceremonies, activities, and programs.

IN WITNESS WHEREOF, I have hereunto set my hand this fifteenth day of October, in the year of our Lord two thousand one, and of the Independence of the United States of America the two hundred and twenty-sixth.

B

[FR Doc. 01-26341

Filed 10-16-01; 8:45 am]

Billing code 3195-01-P